SECURITIES AND EXCHANGE COMMISSION

[SEC File No. 270-647, OMB Control No. 3235-0697]

Submission for OMB Review; Comment Request; Extension: Form SD

Upon Written Request Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) has submitted to the Office of Management and Budget this request for extension of the previously approved collection of information discussed below.

Form SD (17 CFR 249b-400) is required by Section 13(p) (15 U.S.C. 78m(p)) of the Securities Exchange Act of 1934 (15 U.S.C. 78a et seq.) (“Exchange Act”) and Rule 13p-1 thereunder (17 CFR 240.13p-1) and is filed by issuers to provide disclosures regarding the source and chain of custody of certain minerals used in their products. Section 13(p) was added by Section 1502 of the Dodd-Frank Wall Street Reform and Consumer Protection Act (“Dodd-Frank Act”). We estimate that, when used by filers to comply with Section 13(p), Form SD takes approximately 480.61265 hours per response to prepare and is filed by approximately 1,009 issuers. We estimate that 75% of the 480.61265 hours per response (360.46 hours) is prepared by the issuer internally for a total annual burden of 363,704 hours (360.46 hours per response × 1,009 responses).

Form SD is also used by filers to comply with Section 13(q) of the Exchange Act (15 U.S.C. 78m(q)) and Rule 13q-1 thereunder (17 CFR 240.13q-1). Section 13(q) was added by Section 1504 of the Dodd-Frank Act. Form SD is used by resource extraction issuers to disclose information relating to certain payments made by the issuer, a subsidiary of the issuer, or an entity under the control of the issuer, to a foreign government or the Federal Government for the purpose of the commercial development of oil, natural gas, or minerals. We estimate that, when used by filers to comply with Section 13(q), Form SD takes approximately 296.9202 hours per response to prepare and is filed by approximately 414 issuers. We estimate that 75% of the 296.9202 hours per response (222.69 hours) is prepared by the issuer internally for a total annual burden of 192,194 hours (222.69 hours per response × 414 issuers responses).

For purposes of the Paperwork Reduction Act (“PRA”), we estimate that Form SD take approximately 427.1701 hours per response to comply with collection information requirements of Sections 13(p) and 13(q) under the Exchange Act and is filed by 1,423 issuers. We estimate that 75% of the 427.1701 of hours per response (320.3775 hours) is prepared by the issuer internally for a total annual burden of 455,897 hours (320.3775 hours per response × 1,423 issuers). The estimated burden hours are made solely for the purposes of the Paperwork Reduction Act and are not derived from a comprehensive or even a representative survey or study of the costs of Commission rules and forms.

An agency may not conduct or sponsor, and a person is not required to respond to, a collection of information unless it displays a currently valid control number.

The public may view background documentation for this information collection at the following website: www.reginfo.gov. Find this particular information collection by selecting “Currently under 30-day Review—Open for Public Comments” or by using the search function. Written comments and recommendations for the proposed information collection should be sent within 30 days of publication of this notice by July 29, 2024 to (i) www.reginfo.gov/public/do/PRAMain and (ii) David Bottom, Director/Chief Information Officer, Securities and Exchange Commission, c/o John Pezzullo, 100 F Street NE, Washington, DC 20549, or by sending an email to: PRA_Mailbox@sec.gov.

Dated: June 21, 2024.
Vanessa A. Countryman,
Secretary.

[FR Doc. 2024-14085 Filed 6-26-24; 8:45 am]

BILLING CODE 8011-01-P